DEPARTMENT OF ENERGY

Federal Energy Regulatory Commission

[Project No. 12747-001]

San Diego County Water Authority; Notice of Preliminary Permit Application Accepted for Filing and Soliciting Comments, Motions To Intervene, and Competing Applications

April 7, 2010.

On March 1, 2010, San Diego County Water Authority filed an application for a preliminary permit, pursuant to section 4(f) of the Federal Power Act, proposing to study the feasibility of the San Vicente Pumped Storage Water Power Project No. 13747. The proposed project would be located at the existing San Vicente dam and reservoir on San Vicente Creek in San Diego County, California. The project would consist of the existing San Vicente reservoir functioning as the lower reservoir of the project and one of three alternatives as an upper reservoir: the Iron Mountain Alternative, the Foster Canyon Alternative, and the East Reservoir Alternative. Specific details about each of these alternatives are described below. The sole purpose of a preliminary permit, if issued, is to grant the permit holder priority to file a license application during the permit term. A preliminary permit does not authorize the permit holder to perform any land-disturbing activities or otherwise enter upon lands or waters owned by others without the owners' express permission.

All three of the alternatives would use the San Vicente reservoir as the lower reservoir of the pumped storage project. The San Vicente reservoir portion of the project would consist of:

(1) an existing dam, currently being raised to a dam height of 337 feet, and a length of 1,442 feet; and (2) an existing impoundment, that upon completion of the dam raise will have a surface area of 1,600 acres, and storage capacity of 247,000 acre-feet with a normal maximum water surface elevation of 767 feet above mean sea level (msl).

The three alternatives for the upper reservoir are described below.

Iron Mountain Alternative

(1) A proposed 235-foot-high, 1,250-foot-long upper dam located 3 miles north of San Vicente reservoir; (2) a proposed reservoir with a surface area of 93 acres having a storage capacity of 8,070 acre-feet and a normal maximum water surface elevation of 2,110 feet above msl; (3) a proposed 12,300-foot-long, 20-foot-diameter concrete power tunnel; (4) two proposed 500-foot-long, steel-lined penstocks; (5) a proposed powerhouse containing two generating units having a total installed capacity of 500 megawatts; (6) a proposed 3,300-foot-long, 24-foot-diameter concrete tailrace; (7) a proposed 14,000-foot-long, 230-kilovolt transmission line; and (8) appurtenant facilities.

Foster Canyon Alternative

(1) A proposed upper dam approximately one half mile north of San Vicente reservoir; (2) a proposed upper reservoir with a surface area of 100 acres normal maximum water surface elevation of 1,490 feet above msl; (3) a proposed 3,000-foot-long, 20-foot-long, concrete power tunnel; (4) two proposed 300-foot-long, steel-lined penstocks; (5) a proposed powerhouse containing two generating units having a total installed capacity of 480 megawatts; (6) a proposed 2,700-foot-long, 24-foot-diameter concrete tailrace; (7) a proposed 9,000-foot-long, 230-kilovolt transmission line; and (8) appurtenant facilities.

The East Reservoir Alternative

(1) A proposed upper dam approximately 0.8 miles east of San Vicente Reservoir; (2) a proposed upper reservoir with a surface area of 60 acres and a normal maximum water surface elevation of 1,600 feet above msl; (3) a proposed 6,000-foot-long, 20-foot-long concrete power tunnel; (4) two proposed 300-foot-long, steel-lined penstocks; (5) a proposed powerhouse containing two generating units having a total installed capacity of 570 megawatts; (6) a proposed 2,600-foot-long, 24-foot-diameter concrete tailrace; (7) a proposed 15,000-foot-long, 230-kilovolt transmission line; and (8) appurtenant facilities.

The proposed project would have a maximum estimated annual generation of up to 1,000 gigawatt-hours, which would be sold to a local utility.

Applicant Contact: Frank Belock, Deputy General Manager, San Diego County Water Authority, 4677 Overland Avenue, San Diego, CA 92123; phone: (858) 522-67881.

FERC Contact: Joseph P. Hassell, 202-502-8079

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12747) in the docket number field to access the document. For assistance, contact FERC Online Support.

Kimberly D. Bose,
Secretary.

[FR Doc. 2010-8590 Filed 4-14-10; 8:45 am]

BILLING CODE 6717-01-P